DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Brown County, Illinois, and Incorporated Areas
Docket No.: FEMA-B1007
Illinois River | From the limit of flooding affecting community at river mile 71.3 in Pike County; 0.7 mile downstream of the Pike/Brown County border at approximately State Hwy 104 | +448 | Unincorporated Areas of Brown County.
| To the Schuyler/Morgan County border at River Mile 83.8; approximately the mouth of the La Moine River | +450
* National Geodetic Vertical Datum.
+ North American Vertical Datum.
# Depth in feet above ground.
ADDRESSES
Unincorporated Areas of Brown County
Maps are available for inspection at the Brown County Courthouse, 200 West Court Street, Mt. Sterling, IL 62353.
Hancock County, Illinois, and Incorporated Areas
Docket No.: FEMA-B-1012
Mississippi River | From the Hancock/Adams County boundary at River Mile 347.4; approximately 4 miles upstream of Lock and Dam No. 20 | +494 | Unincorporated Areas of Hancock County, City of Dallas City, City of Hamilton, City of Nauvoo, City of Warsaw, Village of Pontoosuc.
| To the Hancock/Henderson county boundary at River Mile 390.85, approximately Oak Street in Dallas City | +529
* National Geodetic Vertical Datum.
+ North American Vertical Datum.
# Depth in feet above ground.
ADDRESSES
City of Dallas City
Maps are available for inspection at 261 Oak Street, P.O. Box 454, Dallas City, IL 62330.
City of Hamilton
Maps are available for inspection at Hamilton City Hall, 1010 Broadway Street, Hamilton, IL 62341.
City of Nauvoo
Maps are available for inspection at 60 North Bluff Street, P.O. Box 85, Nauvoo, IL 62354.
City of Warsaw
Maps are available for inspection at 210 North Fourth Street, P.O. Box 12, Warsaw, IL 62379.
Unincorporated Areas of Hancock County
Maps are available for inspection at 500 Main Street, P.O. Box 444, Carthage, IL 62321.
Village of Pontoosuc
Maps are available for inspection at Pontoosuc Village Hall, 200 Mustard Street, Pontoosuc, IL 62368.
Hancock County, Mississippi, and Incorporated Areas
Docket No.: FEMA-B-7756
Bayou Coco | Approximately 300 feet upstream of Sam Farve Road | +17 | Unincorporated Areas of Hancock County.
| Just downstream of Cuevas Road | +38
Bayou Coco Tributary 1 | At the confluence with Bayou Coco | +26 | Unincorporated Areas of Hancock County.
| Approximately 6,500 feet upstream of the confluence with Bayou Coco | +55
Bayou La Terre | Approximately 3,100 feet upstream of Kiln Delisle Road | +17 | Unincorporated Areas of Hancock County.
| Approximately 8,976 feet upstream of Kiln Delisle Road | +21
Bayou Lasalle | Approximately 2,000 feet upstream of Kiln Delisle Road | +17 | Unincorporated Areas of Hancock County.
| Approximately 2,100 feet downstream of confluence with Bayou LaSalle Tributary 1 | +21
Bayou Talla | Approximately 1,300 feet downstream of confluence with Bayou Talla Tributary 3 | +17 | Unincorporated Areas of Hancock County.
| Just downstream of Kiln Picayune Road | +25
Bayou Talla Tributary 3 | At the confluence with Bayou Talla | +19 | Unincorporated Areas of Hancock County.
| Approximately 2,300 feet upstream of the confluence with Bayou Talla | +28
Catahoula Creek | At the confluence with Jourdan River | +18 | Unincorporated Areas of Hancock County.
| Approximately 3,100 feet downstream of Mitchell Road | +47
Dead Tiger Creek | At the confluence with Catahoula Creek | +27 | Unincorporated Areas of Hancock County.
| Just downstream of Flat Top Road | +34
Hickory Creek | At the confluence with Catahoula Creek | +45 | Unincorporated Areas of Hancock County.
| Approximately 450 feet downstream of the confluence with Crane Pond Branch | +50
Hickory Creek Tributary 1 | Approximately 2,500 feet upstream of the confluence with Hickory Creek | +81 | Unincorporated Areas of Hancock County.
| Approximately 7,500 feet upstream of the confluence with Hickory Creek | +113
Jourdan River | Approximately 10,560 feet downstream of confluence with Bayou Bacon | +16 | Unincorporated Areas of Hancock County.
| At the confluence with Bayou Bacon | +18
Mississippi Sound/Gulf of Mexico | Near the intersection of Beach Boulevard and Lafitte Drive | +18 | Unincorporated Areas of Hancock County, City of Bay St. Louis, City of Waveland.
| Near the intersection of Hancock Street and St. Charles Street | +27
Pearl River/Mississippi Sound | Just west of the intersection of State Highway 607 and Old Highway 43 | +12 | Unincorporated Areas of Hancock County.
| South of La France Road at railroad along coastline | +25
St. Louis Bay/Bayou La Croix/Bayou Philip/Jourdan River | Approximately 15,840 feet east of intersection of Interstate 10 and State Highway 607 | +9 | Unincorporated Areas of Hancock County, City of Bay St. Louis, City of Waveland.
| Eastern county boundary south of Interstate 10 | +26
Stall Branch | At the confluence with Dead Tiger Creek | +30 | Unincorporated Areas of Hancock County.
| Approximately 14,600 feet upstream of the confluence with Dead Tiger Creek | +42
* National Geodetic Vertical Datum.
+ North American Vertical Datum.
# Depth in feet above ground.
ADDRESSES
City of Bay St. Louis
Maps are available for inspection at the Courthouse, 688 Highway 90, Bay St. Louis, MS 39520.
City of Waveland
Maps are available for inspection at the Permit Department, 335 Coleman Avenue, Building 5, Waveland, MS 39576.
Unincorporated Areas of Hancock County
Maps are available for inspection at the Building Department, 3068 Longfellow Drive, Building 6, Bay St. Louis, MS 39520.
Halifax County, Virginia and Incorporated Areas
Docket No.: FEMA-B-1009
Reedy Creek | Approximately 1,400 feet downstream of Ash Avenue | +331 | Unincorporated Areas of Halifax County.
| At confluence with Dan River | +331
Rocky Branch | At confluence with Reedy Creek | +331 | Unincorporated Areas of Halifax County.
| Approximately 0.4 mile upstream of Eastover Road | +346
* National Geodetic Vertical Datum.
+ North American Vertical Datum.
# Depth in feet above ground.
ADDRESSES
Unincorporated Areas of Halifax County
Maps are available for inspection at the Halifax County GIS Department, 134 South Main Street, Halifax, Virginia.

(Catalog of Federal Domestic Assistance No. 97.022, “Flood Insurance.”)

Dated: June 29, 2009.
Deborah S. Ingram,
Acting Deputy Assistant Administrator for Mitigation, Mitigation Directorate, Department of Homeland Security, Federal Emergency Management Agency.

[FR Doc. E9-17108 Filed 7-16-09; 8:45 am]

BILLING CODE 1505-01-D